DEPARTMENT OF HEALTH AND HUMAN SERVICES

National Institutes of Health

Office of the Secretary; Notice of Meeting

Pursuant to section 1009 of the Federal Advisory Committee Act, as amended, notice is hereby given of a meeting of the Muscular Dystrophy Coordinating Committee (MDCC).

The meeting will be held as an online meeting and will be open to the public. Individuals who need special assistance or other reasonable accommodation should notify the Contact Person listed below in advance of the meeting. Information for online viewing is provided below.

Name of Committee: Muscular Dystrophy Coordinating Committee.

Date: October 31, 2025.

Time: 12:00 p.m. to 4:00 p.m. ET.

Agenda: The purpose of this meeting is to bring together committee members, representing government agencies, patient advocacy groups and people with lived experience to discuss topics of interest to the muscular dystrophy communities. The agenda for this meeting features panel discussions inviting industry leaders to comment on priorities for the Action Plan, the MDCC's ten-year strategic plan for research and other strategies to improve the lives of people living with muscular dystrophies. The agenda for this meeting is available on the registration site below and the MDCC website: https://www.mdcc.nih.gov/.

Address: National Institutes of Health, National Institutes of Health (NIH), 9000 Rockville Pike, Bethesda, Maryland 20892.

Meeting Format: Virtual Meeting.

Contact Person: Glen Nuckolls, Ph.D., National Institute of Neurological Disorders and Stroke (NINDS), NIH, 6001 Executive Blvd. Bethesda, MD 20892, 301-496-5876, glen.nuckolls@nih.gov.

Registration: Registration is required to view the webcast. Registration information is available at https://events.gcc.teams.microsoft.com/event/1e491494-396e-42b7-874c-ecf6f85e45dc@14b77578-9773-42d5-8507-251ca2dc2b06.

Any interested person may file written comments with the committee by sending a statement to the Contact Person listed on this notice. The statement should include the name, address, telephone number and when applicable, the business or professional affiliation of the interested person.

Anyone from the public can register for a link to view the meeting and submit questions, and the meeting can be viewed via the NIH Videocasting website (http://videocast.nih.gov). Please check the registration website or the committee website listed below for the most up-to-date information about this meeting.

More information can be found on the Muscular Dystrophy Coordinating Committee website: https://mdcc.nih.gov/.

Dated: September 26, 2025.
David W. Freeman,
Supervisory Program Analyst, Office of Federal Advisory Committee Policy.

[FR Doc. 2025-19108 Filed 9-30-25; 8:45 am]

BILLING CODE 4140-01-P